DEPARTMENT OF COMMERCE

National Oceanic and Atmospheric Administration

RIN 0648-XA122

Marine Mammals; File No. 14330

AGENCY: National Marine Fisheries Service (NMFS), National Oceanic and Atmospheric Administration (NOAA), Commerce.

ACTION: Notice; issuance of permit amendment.

SUMMARY: Notice is hereby given that a major amendment to Permit No. 14330-01 has been issued to the Aleut Community of St. Paul Island, Tribal Government, Ecosystem Conservation Office, St. Paul Island, AK 99660.

ADDRESSES: The permit amendment and related documents are available for review upon written request or by appointment in the Permits and Conservation Division, Office of Protected Resources, NMFS, 1315 East-West Highway, Room 13705, Silver Spring, MD 20910; telephone: (301) 427-8401; fax: (301) 713-0376.

FOR FURTHER INFORMATION CONTACT: Brendan Hurley or Amy Sloan; telephone: (301) 427-8401.

SUPPLEMENTARY INFORMATION: On July 17, 2013, notice was published in the Federal Register (78 FR 42756) that a request for an amendment to Permit No. 14330-01 for research on northern fur seals (Callorhinus ursinus) and incidental disturbance to Steller sea lions (Eumetopias jubatus) and harbor seals (Phoca vitulina) had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Permit No. 14330-02 authorizes the permit holder to conduct activities to fulfill their Biosampling, Disentanglement, and Island Sentinel program responsibilities as established under the co-management agreement between NMFS and the Aleut Communities. Activities include northern fur seal (1) disentanglement; (2) sample collection from dead animals and sample export; and (3) haulout and rookery observations, monitoring, and remote camera maintenance. The permit amendment authorizes additional takes of northern fur seals for new habitat use studies, incorporates incidental disturbance of Steller sea lions and harbor seals during other fur seal studies without increasing authorized takes, consolidates existing fur seal authorized takes of certain age and sex categories, consolidates existing fur seal authorized takes for studies with similar types of incidental disturbance, and extends the permit for one year. The permit amendment expires on August 31, 2015.

In compliance with the National Environmental Policy Act of 1969 (42 U.S.C. 4321 et seq.), NMFS has determined that the activities proposed are consistent with the Preferred Alternative in the Final Programmatic Environmental Impact Statement for Steller Sea Lion and Northern Fur Seal Research (NMFS 2007), and that issuance of the permit would not have a significant adverse impact on the human environment.

As required by the ESA, issuance of this permit was based on a finding that such permit: (1) Was applied for in good faith; (2) will not operate to the disadvantage of such endangered species; and (3) is consistent with the purposes and policies set forth in section 2 of the ESA.

Dated: September 24, 2014.
Julia Harrison,
Chief, Permits and Conservation Division, Office of Protected Resources, National Marine Fisheries Service.

[FR Doc. 2014-23940 Filed 10-7-14; 8:45 am]

BILLING CODE 3510-22-P